DEPARTMENT OF AGRICULTURE

Agricultural Marketing Service

7 CFR Part 1250

[Document No. AMS-LP-19-0113]

Egg Research and Promotion; Reapportionment

AGENCY: Agricultural Marketing Service, USDA.

ACTION: Proposed rule.

SUMMARY: This proposed rule would adjust representation on the American Egg Board (Board), established under the Egg Research and Consumer Information Act of 1974 (Act), and outlines changes to geographic areas based on sustained changes in egg production in several States. The Egg Research and Promotion Order (Order) establishes a Board composed of 18 members. Currently, the 48 contiguous States are divided into 6 areas with 3 members representing each area. This proposed rule would reduce the number of geographic areas from six to three. The number of Board members representing each geographic area would change to six. The total Board membership would remain at 18.

DATES: Submit comments on or before June 8, 2020.

ADDRESSES: Comments should be posted online at www.regulations.gov. Comments received will be posted without change, including any personal information provided. All comments should reference the docket number AMS-LP-19-0113, the date of submission, and the page number of this issue of the Federal Register. Comments may also be sent to Craig Shackelford, Agricultural Marketing Specialist; Research and Promotion Division; Livestock and Poultry Program, AMS, USDA; Room 2608-S, STOP 0251, 1400 Independence Avenue SW, Washington, DC 20250-0251; or via fax to (202) 720-1125. Comments will be made available for public inspection at the above address during regular business hours or via the internet at www.regulations.gov.

FOR FURTHER INFORMATION CONTACT: Craig Shackelford, Research and Promotion Division, at (470) 315-4246; fax (202) 720-1125; or by email at Craig.shackelford@usda.gov.

SUPPLEMENTARY INFORMATION:

Background and Proposed Action

The Act authorizes the Secretary to establish an Egg Board composed of egg producers or representatives of egg producers appointed by the Secretary so that the representation of egg producers on the Board reflects, to the extent practicable, the proportion of eggs produced in each geographic area of the United States. 7 U.S.C. § 2707(b). This proposal invites comments on changing the Board's membership under the Order. The Board administers the Order with oversight by the U.S Department of Agriculture (USDA).

The Order outlines the geographic representation of the current 18-member board, composed of members from six distinct geographical areas. To ensure that representation on the Board remains representative of the industry, § 1250.328 of the Order provides for reapportionment of Board membership based on the Board's periodic review of production by geographic area. This periodic review can occur at any time based on changes in egg production in various geographical areas; however, the Order requires that the area distribution be reviewed at least every 5 years. Sections 1250.328(d) and (e) of the Order provide that any changes in the delineation of the geographical areas and the area distribution of the Board be determined by the percentage of total U.S. egg production.

Reapportionment

The Board and the Agricultural Marketing Service (AMS) reviewed production data to determine what, if any, changes are needed in the distribution of Board membership. The Board and AMS verified certain shifts in production trends. Section 8 of the Act (7 U.S.C. 2707) provides for a Board of not more than 20 members. Section 1250.328 of the Order provides for an 18-member Board and contemplates changes to the Board by determining the percentage of United States egg production in each area times 18 (total Board membership) and rounding to the nearest whole number. Using the calculation for the North Atlantic region results in 2 members while the calculation for the other 5 regions result in 3 members each, for a total 17 members, one less than the number stated in the Order. Therefore, regions must be changed so that the 18-member Board can be established. Table 1 shows that reducing regions from six to three will expand the number of States included in each region and suggests that the grouping of more States into fewer regions would improve consistency in the proportion of small versus large farms represented on the Board.

Table 1—Regional Poultry Farm Distribution—Current and Proposed
Region | Small firms |  | Large |  | Total | States
| <$1,000,000 |  | $1,000,000+ |  |  |
Current Geographical Area
I | 27,243 | 93% | 2,172 | 7% | 29,415 | 13
II | 29,077 | 76% | 9,042 | 24% | 38,119 | 9
III | 27,774 | 95% | 1,575 | 5% | 29,349 | 5
IV | 24,652 | 96% | 1,102 | 4% | 25,754 | 10
V | 7,292 | 96% | 312 | 4% | 7,604 | 3
VI | 32,750 | 97% | 1,108 | 3% | 33,858 | 10
| 148,788 | 91% | 15,311 | 9% | 164,099 | 50
Proposed Geographical Area
I | 63,513 | 87% | 9,891 | 13% | 73,404 | 21
II | 48,482 | 92% | 4,299 | 8% | 52,781 | 10
III | 36,793 | 97% | 1,121 | 3% | 37,914 | 19
| 148,788 | 91% | 15,311 | 9% | 164,099 | 50

This table also shows the distribution of farms represented by size, and the proportion of farms that are small versus large. With the inclusion of more states into fewer regions, the proportion of small versus large farms becomes less variable. For example, in Regions I and II in the current structure, 93 percent and 76 percent, respectively, of the firms in these regions are classified as small. When the structure is changed, as proposed, the two regions are more or less combined, and the new Region I is composed of 87 percent small firms. The table shows less variation in size between the three proposed new regions than there is in the current structure.

Section 1250.326 of the Order establishes a Board, composed of 18 egg producers or representatives of egg producers, and 18 specific alternates, appointed by the Secretary from nominations submitted by eligible organizations, associations, or cooperatives, or by other producers pursuant to § 1250.328. The current 18-member Board is composed of 3 members representing each of the 6 regions. No changes to the total number of members (18 members with 18 alternates) is proposed. However, regions would be reduced to three from six and each region would include more States.

Pursuant to the requirements of the Order, the Board began its most recent review of Board member apportionment in 2019. Production data from the 2018 National Agricultural Statistics Service (NASS) report was used to establish the percentage of U.S. egg production in each area. The goal of this reapportionment of Board members is to ensure representation on the Board remains consistent with the Act and Order by recognizing production shifts over time. If finalized, these changes would become effective with the Secretary's appointments for terms beginning in the year 2021.

The Board and AMS recognize that shifts in production have resulted in the Northeast region no longer being proportionately represented on the Board. The Board and AMS also found that industry consolidation has also contributed to a more limited number of egg producing entities in each region. The Board and AMS desire a structure that allows the full representation of the egg producing entities. The Board and AMS have found that it is increasingly difficult for State nominating organizations to present an appropriate number of candidates each year. By reducing the number of regions and increasing the geographic size of regions, the Board and AMS believe that more egg producing entities may be represented on the Board.

This proposed rule would result in the proportionate representation of each geographic area and increase the number of egg producing entities represented in each geographic area. The Board and AMS have determined that these changes will better represent the distribution of egg production and enable eligible nominating organizations to more easily identify potential nominees.

In accordance with § 1250.328(e) of the Order, the Board has recommended changes to the number and composition of geographic regions represented on the Board.

The current and proposed representation are indicated in the following two tables:

Table 2—Current Geographical Distribution and Number of Members on the Board
Geographic area | Current number of members | Represented States
I—North Atlantic | 3 | Connecticut, Delaware, Maine, Maryland, Massachusetts, New Hampshire, New Jersey, New York, Pennsylvania, Rhode Island, Vermont, Virginia, West Virginia, and District of Columbia.
II—South Atlantic | 3 | Alabama, Arkansas, Florida, Georgia, Louisiana, Mississippi, North Carolina, Oklahoma, and South Carolina.
III—East North Central | 3 | Kentucky, Michigan, Missouri, Ohio, and Tennessee.
IV—West North Central | 3 | Colorado, Idaho, Illinois, Indiana, Minnesota, Montana, North Dakota, South Dakota, Wisconsin, and Wyoming.
V—South Central | 3 | Iowa, Kansas, and Nebraska.
VI—Western | 3 | Arizona, California, Nevada, New Mexico, Oregon, Texas, Utah, and Washington.

Table 3—Proposed Geographical Distribution and Number of Members on the Board
Proposed geographic area | Proposed number of members | Proposed States represented
I—East | 6 | Connecticut, Delaware, Maine, Maryland, Massachusetts, New Hampshire, New Jersey, New York, Pennsylvania, Rhode Island, Vermont, Virginia, West Virginia, the District of Columbia, Alabama, Georgia, Florida, Louisiana, Mississippi, North Carolina, South Carolina, and Texas.
II—Central | 6 | Arkansas, Oklahoma, Illinois, Indiana, Kentucky, Michigan, Missouri, Ohio, Tennessee, and Wisconsin.
III—West | 6 | Arizona, California, Colorado, Idaho, Iowa, Kansas, Minnesota, Montana, Nebraska, Nevada, New Mexico, North Dakota, South Dakota, Utah, Washington, and Wyoming.

Membership changes are based on production in the proposed geographic areas, noting that changes to Board distribution will be accomplished by determining the percentage of reported cases of eggs produced in each area times 18 (total Board membership) and rounding to the nearest whole number, as follows:

Table 4—Projected Board Membership
Proposed geographical areas | USDA reported cases of eggs produced | Percent of total production | Percent of total production multiplied by 18 board members | Projected board membership
I—East | 35,724,500,000 | 32.72 | 5.89 | 6
II—Central | 36,942,400,000 | 33.83 | 6.09 | 6
III—West | 36,525,200,000 | 33.45 | 6.02 | 6
Total U.S. Production | 109,192,100,000 | 100 | 100 | 18

This proposed rule would apply to the nomination process in 2020 and affect the board members appointed by the Secretary to serve on the Board beginning in 2021.

A 30-day comment period is provided to allow interested persons to respond to this proposal. All written comments received in response to this rule by the date specified will be considered prior to finalizing this action.

Executive Orders 12866, 13563, and 13771

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. This rule does not meet the definition of a significant regulatory action contained in section 3(f) of Executive Order 12866 and therefore, the Office of Management and Budget (OMB) has waived review of this action. Additionally, because this rule does not meet the definition of a significant regulatory action, it does not trigger the requirements contained in Executive Order 13771. See OMB's Memorandum titled “Interim Guidance Implementing Section 2 of the Executive Order of January 30, 2017, titled `Reducing Regulation and Controlling Regulatory Costs' ” (February 2, 2017).

Executive Order 12988

This proposed rule has been reviewed under Executive Order 12988, Civil Justice Reform. This rule is not intended to have retroactive effect.

There are no administrative proceedings that must be exhausted prior to any judicial challenge to the provisions of this rule.

Executive Order 13175

This action has been reviewed in accordance with the requirements of Executive Order 13175, Consultation and Coordination with Indian Tribal Governments. The review reveals that this regulation would not have substantial and direct effects on Tribal governments or significant Tribal implications.

Paperwork Reduction Act

In accordance with OMB regulations (5 CFR part 1320) that implement the Paperwork Reduction Act of 1995 (44 U.S.C. part 35), the information collection and recordkeeping requirements contained in the Order and accompanying Rules and Regulations have previously been approved by OMB and were assigned OMB control number 0581-0093. This proposal would not increase or impose any new information collection or recordkeeping requirements.

Initial Regulatory Flexibility Act

Pursuant to the requirements set forth in the Regulatory Flexibility Act (RFA) (5 U.S.C. 601-622), AMS considered the economic effect of this action on small entities and determined that this proposed rule would not have a significant economic impact on a substantial number of small entities. The purpose of RFA is to fit regulatory actions to the scale of businesses subject to such actions in order that small businesses will not be unduly burdened. The Small Business Administration (SBA) published an interim final rule that became effective on August 19, 2019, (84 FR 34261) that adjusts the monetary-based size standards for inflation. As a result of this rule, the size classification for small egg-producing firms changed from sales of $750,000 or less to sales of $1,000,000 or less.

According to USDA's NASS, USDA collects data for the Agriculture Census (Ag Census) using the North American Industry Classification System (NAICS). The NAICS classifies economic activities and was developed to provide a consistent framework for the collection, analysis, and dissemination of industrial statistics used by government policy analysts, academia and the business community. It is the first industry classification system developed in accordance with a single principle of aggregation that production units using similar production processes should be grouped together.

In the 2017 Ag Census, the poultry and egg production classification (classification category 1123) comprises establishments primarily engaged in breeding, hatching, and raising poultry for meat or egg production. The 2017Ag Census shows there were 164,099 reported poultry farms in the United States and 36,012 egg producers. Ag Census data includes sales category ranges for the poultry sector as a whole but does not include separate sales categories for egg producers. Instead, NASS provides data for the broader category of “Poultry and Eggs.” Therefore, AMS is not able to obtain stand-alone sales data for egg-producing farms. As a result, for this RFA, AMS used the broader category of poultry producers as the closest possible substitute as the basis for determining the size of egg producers.

Of the 164,099 poultry producers identified in the 2017 Census of Agriculture, 148,788 (91 percent) reported sales of less than $1,000,000 and would therefore fall under the SBA definition of small business. Therefore, the remaining 15,311 (9 percent) producers would be considered large. If the egg producer segment has the same proportional distribution across firm sizes, 91 percent, or 32,771 egg producers would be classified as small businesses, and 9 percent, or 3,241 egg producers would be considered large.

Sales data are also available at the state level for the overall poultry segment. Using this data, and the assumption that the proportion of large and small poultry farms similarly applies to egg producers, Table 1 shows how the proposed changes in geographical areas will shift producer representation on the Board.

The proposed rule imposes no new burden on the industry, as it only adjusts representation on the Board to reflect changes in egg production. The adjustments are required by the Order and would not result in a change in the overall number of Board members. Even if most egg producers are small entities, this action does not change their ability to qualify for representation on the Board or add any new burden. In conclusion, AMS believes that reducing the regions from six to three and increasing the number of States within each region will contribute to greater representation of egg producing firms on the Board.

AMS is committed to complying with the E-Government Act of 2002 to promote the use of the internet and other information technologies to provide increased opportunities for citizen access to government information and services, and for other purposes.

AMS has not identified any relevant Federal rules that duplicate, overlap, or conflict with this rule.

List of Subjects in 7 CFR Part 1250

Administrative practice and procedure, Advertising, Agricultural research, Eggs and Egg products, Reporting and recordkeeping requirements.

For the reasons set forth in the preamble, AMS proposes to amend 7 CFR part 1250 as follows:

PART 1250—EGG PROMOTION AND RESEARCH

1. The authority citation for 7 CFR part 1250 continues to read as follows:

Authority: 7 U.S.C. 2701-2718 and 7 U.S.C. 7401.

2. Amend § 1250.510 by revising paragraphs (a) and (b) to read as follows:

§ 1250.510 Determination of Board Membership.

(a) Pursuant to § 1250.328 (d) and (e), the 48 contiguous States of the United States shall be grouped into three geographic areas, as follows: Area I (East)—Connecticut, Delaware, Maine, Maryland, Massachusetts, New Hampshire, New Jersey, New York, Pennsylvania, Rhode Island, Vermont, Virginia, West Virginia, the District of Columbia, Alabama, Georgia, Florida, Louisiana, Mississippi, North Carolina, South Carolina and Texas; Area II (Central)—Arkansas, Oklahoma, Illinois, Indiana, Kentucky, Michigan, Missouri, Ohio, Tennessee, and Wisconsin; Area III (West)—Arizona, California, Colorado, Idaho, Iowa, Kansas, Minnesota, Montana, Nebraska, Nevada, New Mexico, North Dakota, South Dakota, Utah, Washington, and Wyoming.

(b) Board representation among the three geographic areas is apportioned to reflect the percentages of United States egg production in each area times 18 (total Board membership). The distribution of members of the Board is: Area I-6, Area II-6, and Area III-6. Each member will have an alternate appointed from the same area.

* * * * *

Bruce Summers,
Administrator, Agricultural Marketing Service.

[FR Doc. 2020-09010 Filed 5-6-20; 8:45 am]

BILLING CODE P